DEPARTMENT OF HEALTH AND HUMAN SERVICES

Centers for Disease Control and Prevention

[30Day-20-1156]

Agency Forms Undergoing Paperwork Reduction Act Review

In accordance with the Paperwork Reduction Act of 1995, the Centers for Disease Control and Prevention (CDC) has submitted the information collection request titled Performance Monitoring of “Working with Publicly Funded Health Centers to Reduce Teen Pregnancy among Youth from Vulnerable Populations” (OMB# 0920-1156, Exp. 01/31/2020) to the Office of Management and Budget (OMB) for review and approval. A revision is requested to reduce burden hours and extend data collection through the end of the funding period (09/30/2020). CDC previously published a “Proposed Data Collection Submitted for Public Comment and Recommendations” notice on September 5, 2019 to obtain comments from the public and affected agencies. CDC received three comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570 or send an email to omb@cdc.gov. Direct written comments and/or suggestions regarding the items contained in this notice to the Attention: CDC Desk Officer, Office of Management and Budget, 725 17th Street NW, Washington, DC 20503 or by fax to (202) 395-5806. Provide written comments within 30 days of notice publication.

Proposed Project

Performance Monitoring of “Working with Publicly Funded Health Centers to Reduce Teen Pregnancy among Youth from Vulnerable Populations”—Revision—National Center for Chronic Disease Prevention and Health Promotion (NCCDPHP), Centers for Disease Control and Prevention (CDC).

Background and Brief Description

Although the 2017 U.S. rate of 18.8 births per 1,000 female teens aged 15-19 years represents a continued decline, the United States has one of the highest teen birth rates of all Western industrialized countries. Access to reproductive health services and the most effective types of contraception has been shown to reduce the likelihood that teens become pregnant. Nevertheless, recent research and lessons learned through a previous teen pregnancy prevention project implemented through CDC in partnership with the Office of Adolescent Health (2010-2015; OMB No. 0920-0952, Exp. 12/31/2015) demonstrate that many health centers serving teens do not engage in youth-friendly best practices that may enhance access to care and to the most effective types of contraception. Furthermore, youth at highest risk of experiencing a teen pregnancy are often not connected to the reproductive health care that they need, even when they are part of a population that is known to be at high risk for a teen pregnancy. Significant racial, ethnic and geographic disparities in teen birth rates persist and continue to be a focus of public health efforts.

To address these challenges, CDC has provided funding to three organizations to strengthen partnerships and processes that improve reproductive health services for teens. These awardees are working with 25 publicly funded health centers to support implementation of evidence-based recommendations for health centers and providers to improve adolescent access to reproductive health services. In addition, awardees have worked with approximately 30 youth-serving organizations (YSO) to provide staff training and develop systematic approaches to identifying youth who are at risk for a teen pregnancy and referring those youth to reproductive health care services. Finally, awardees have developed communication campaigns that increase awareness of the partner health centers' services for teens. Activities are expected to result in changes to health center and YSO partners' policies, to staff practices, and to youth health care seeking and teen pregnancy prevention behaviors.

The best practices to improve adolescent access to reproductive health services included in this program are supported by evidence in the literature and recommended by major medical associations. Each of the components of the current project has been implemented as part of past teen pregnancy prevention efforts. Consistent with CDC's mission of using evidence to improve public health programs, conducting an evaluation of combined best practices, in concert with community-clinical linkage of youth to services to increase their access to reproductive health care, can provide further information to inform future teen pregnancy prevention efforts.

CDC has been collecting the information needed to assess these efforts under “Performance Monitoring of `Working with Publicly Funded Health Centers to Reduce Teen Pregnancy among Youth from Vulnerable Populations' ” (OMB No. 0920-1156, Exp. 1/31/2020). CDC is using the information to determine the types of training and technical assistance that may be needed, to monitor whether awardees meet objectives related to health center and YSO partners' policies and staff practices, to support a data-driven quality improvement process for adolescent sexual and reproductive health care services and referrals, and to assess whether the project model was effective in increasing the utilization of services by youth.

A revision of the currently approved information collection is being requested in order to continue data collection until the end of the project. Remaining information collection activities will include awardees, health center partner organizations, and providers at the health center partners; information collection during the extension period will not include YSOs or youths being served by health centers, as significant changes are not expected to be found for YSOs in the final year and that the youth survey will not need to be conducted beyond late 2019. Participation in the organizational assessment activities is required for awardees and partner organizations. Participation in a survey of health center providers is voluntary. The total estimated burden hours for the extension period are 485 hours.

Estimated Annualized Burden Hours
Type of respondents | Form name | Number of respondents | Number of responses per respondent | Average burden per response (in hours)
Private Sector | Health Center Organizational Assessment | 21 | 1 | 2
| Quarterly Health Center Performance Reporting Tool | 21 | 2 | 4
| Annual Health Center Performance Measure Reporting Tool | 21 | 1 | 6
| Health Center Provider Survey | 84 | 1 | 20/60
| Awardee Training and Technical Assistance Tool | 3 | 8 | 2
| Awardee Performance Measure Reporting Tool | 3 | 1 | 1
State and Local Government | Health Center Organizational Assessment | 4 | 1 | 2
| Quarterly Health Center Performance Measure Reporting Tool | 4 | 2 | 4
| Annual Health Center Performance Measure Reporting Tool | 4 | 1 | 6
| Health Center Provider Survey | 16 | 1 | 20/60

Jeffery M. Zirger,
Lead, Information Collection Review Office, Office of Scientific Integrity, Office of Science, Centers for Disease Control and Prevention.

[FR Doc. 2020-01049 Filed 1-22-20; 8:45 am]

BILLING CODE 4163-18-P